DEPARTMENT OF TRANSPORTATION

Federal Aviation Administration

14 CFR Part 71

[Docket No. FAA 2007-0023, Airspace Docket No. 07-AEA-08]

Establishment of Class E Airspace; Muncy, PA

AGENCY: Federal Aviation Administration (FAA), DOT.

ACTION: Direct final rule; correction, confirmation of effective date.

SUMMARY: The Federal Aviation Administration published in the Federal Register of October 30, 2007, (72 FR 61291-61293), a document establishing Class E airspace, at Muncy, PA. This action corrects the description of the airspace and confirms the effective date of the direct final rule that establishes Class E airspace supporting an Instrument Approach Procedure serving the Muncy Valley Hospital.

DATES: Effective 0901 UTC, December 20, 2007. The Director of the Federal Register approves this incorporation by reference action under Title 1, Code of Federal Regulations, part 51, subject to the annual revision of FAA Order 7400.9 and publication of conforming amendments.

FOR FURTHER INFORMATION CONTACT: Daryl Daniels, Airspace Specialist, System Support, AJO2-E2B.12, FAA Eastern Service Center, 1701 Columbia Ave., College Park, GA 30337; telephone (404) 305-5581; fax (404) 305-5572.

SUPPLEMENTARY INFORMATION:

Confirmation of Effective Date

The FAA published this direct final rule with a request for comments in the Federal Register on October 30 (72 FR 61291-61293). The FAA uses the direct final rulemaking procedure for a non controversial rule where the FAA believes that there will be no adverse public comment. This direct final rule advised the public that no adverse comments were anticipated, and that unless a written adverse comment, or a written notice of interest to submit such an adverse comment, were received within the comment period, the regulation would become effective on December 20, 2007. No adverse comments were received, thus this notice confirms that effective date.

Correction to Final Rule

Additionally, a technical correction to the wording of the original airspace description is accomplished for clarification of the 700 foot Class E airspace. although the description and amendment was incorporated under 14 CFR 71.1 of the Federal Aviation Administration Order 7400.9R, the reference to paragraph 6005, which addresses Class E airspace “extending upwards from 700 or more above the surface of the Earth”, was inadvertently omitted. Therefore, the publication in the Federal Register Docket No. FAA 2007-0023, Airspace Docket No. 07-AEA-08, published October 10, 2007, (72 FR 61291-61293) paragraph 6005 is corrected to read as follows:

Paragraph 6005 Class E Airspace Areas Extending Upward from 700 feet or More Above the Surface of the Earth.

* * * * *

AEA PA E5 Muncy, PA [NEW]

Muncy Valley Hospital, PA

Point In Space Coordinates

(Lat. 41°13′05″ N., long. 76°45′46″ W.)

That airspace extending upward from 700 feet above the surface of the Earth within a 6-mile radius of the point in space (lat. 41°13′05″ N., long. 76°45′46″ W.) serving the Muncy Valley Hospital.

* * * * *

Issued in College Park, GA on December 17, 2007.
Mark D. Ward,
Manager, System Support Group, Eastern Service Center.

[FR Doc. 08-217 Filed 1-24-08; 8:45 am]

BILLING CODE 4910-13-M